Proclamation 9876 of May 3, 2019

National Hurricane Preparedness Week, 2019

By the President of the United States of America

A Proclamation

During National Hurricane Preparedness Week, I encourage all Americans living in hurricane-prone areas to take the measures necessary to safeguard their families, homes, and businesses. As a Nation, we are sadly too familiar with the destructive force of hurricanes. To help prevent and mitigate hurricane-related harm, it is critically important that we prepare for the upcoming hurricane season, which starts next month.

This September marks the 30th anniversary of Hurricane Hugo, one of the strongest and most costly hurricanes to hit the United States from the Atlantic Ocean. That destructive storm devastated the Caribbean Islands of Guadeloupe, St. Croix, and Puerto Rico before making final landfall in South Carolina. The storm surge it generated also caused tremendous damage.

Hugo's destructive storm surge serves as a reminder of how dangerous that aspect of a storm can be. Over the last three decades, more people have died from storm surges and inland flooding than from hurricane winds. More than 50 people died last year after Hurricane Florence shattered all-time rain and flood records in the Carolinas. To address this deadly hazard, the National Weather Service (NWS) recently implemented alerts for impending storm surges on the gulf and east coasts, where low-lying areas and coastal communities are especially vulnerable.

Our ability to track hurricanes for more timely and reliable forecasts has vastly improved. Last year, Hurricane Michael, a Category 5 hurricane and the strongest storm ever to hit the Florida Panhandle, destroyed neighborhoods, wrecked property, and altered countless lives. In the lead-up to Hurricane Michael, the NWS provided expert forecasting. In addition, the NWS has activated services to warn citizens of dangerous wind conditions when the eyewall of a hurricane is moving onshore. The Extreme Wind Warning signals when exceptionally strong winds are imminent, alerting families to take immediate life-saving actions, such as moving away from windows and finding shelter in far-interior locations.

My Administration is continuing its efforts to enhance storm tracking and intensity predictions to help save lives and livelihoods by giving communities adequate time to prepare. We are committed to ensuring that the United States will produce the best weather forecasting model in the world. In 2017, I signed into law the first major standalone weather-related bill in decades, the bipartisan Weather Research and Forecasting Innovation Act. For the past year, we have built on the success of this legislation, especially through the Earth Prediction Innovation Center, strongly supported by the Congress and communities nationwide. This Center will advance our knowledge of severe weather, such as hurricanes, and increase our prediction and forecasting abilities with new modeling capabilities and forecast products that can protect life and property.

Additionally, my Administration continues to prioritize and invest in the mitigation actions that are crucial for saving money, property, and, most importantly, lives when severe storms hit. We are working with communities across our country to implement plans to reduce the damage caused by hurricanes and to make them more resilient when they rebuild after disasters strike. It is crucial that we enhance our ability as a Nation to anticipate and adapt to natural and manmade disasters, disruptions, and emergencies. We must reduce the effects of disaster events and the rising cost of recovery.

This week is an opportunity for everyone in areas that are susceptible to hurricane-related harm to prepare for these deadly storms. The Ready Campaign led by the Federal Emergency Management Agency (FEMA) is available online and can help you develop preparedness plans for your family and business, gather supplies for your emergency kit, and plan for communicating with loved ones when power is out and cell towers are down. By taking collective responsibility to prepare for hurricanes, we help make our communities and our Nation safer and more resilient.

NOW, THEREFORE, I, DONALD J. TRUMP, President of the United States of America, by virtue of the authority vested in me by the Constitution and the laws of the United States, do hereby proclaim May 5 through May 11, 2019, as National Hurricane Preparedness Week. I call upon everyone to take action this week by making use of the online resources provided by the National Weather Service and FEMA to safeguard your families, homes, and businesses from the dangers of hurricanes and severe storms. I also call upon Federal, State, local, tribal, and territorial emergency management officials to help inform our communities about hurricane preparedness and response in order to prevent storm damage and save lives.

IN WITNESS WHEREOF, I have hereunto set my hand this third day of May, in the year of our Lord two thousand nineteen, and of the Independence of the United States of America the two hundred and forty-third.

[FR Doc. 2019-09755

Filed 5-8-19; 11:15 am]

Billing code 3295-F9-P